DEPARTMENT OF THE INTERIOR

Fish and Wildlife Service

Draft Candidate Conservation Agreement With Assurances and Application for an Enhancement of Survival Permit for the Lesser Prairie-Chicken in Texas

AGENCY: U.S. Fish and Wildlife Service, Interior.

ACTION: Notice of availability; receipt of application; request for comment.

SUMMARY: The Texas Parks and Wildlife Department (TPWD) (Applicant) has applied to the U.S. Fish and Wildlife Service (Service) for an enhancement of survival permit pursuant to Section 10(a)(1)(A) of the Endangered Species Act (Act) of 1973, as amended. The permit application includes a draft 20-year Candidate Conservation Agreement with Assurances (CCAA) between the Service and TPWD for the Lesser Prairie-Chicken in 50 Texas counties. We request public comment.

DATES: To ensure consideration, written comments must be received on or before October 23, 2006.

ADDRESSES: Persons wishing to review the application, draft CCAA, or other related documents may obtain copies by written or telephone request to the Field Supervisor, U.S. Fish and Wildlife Service, 711 Stadium Drive, Suite 252, Arlington, Texas 76011, or U.S. Fish and Wildlife Service, Southwest Regional Office, P.O. Box 1306, Room 4012, Albuquerque, New Mexico 87103 (Attn: Luela Roberts, Endangered Species Permits). The application and related documents will be available for public inspection, by appointment only, during normal business hours (8 a.m. to 4:30 p.m.) at the Service's Arlington Office. Comments concerning the application, draft CCAA, or other related documents should be submitted in writing to the Field Supervisor (address above). Please refer to permit number TE-132658-0 when submitting comments. All comments received, including names and addresses, will become a part of the official administrative record and may be made available to the public.

FOR FURTHER INFORMATION CONTACT: Tom Cloud at the U.S. Fish and Wildlife Service Arlington office, 711 Stadium Drive, Suite 252, Arlington, Texas 76011 (817/277-1100), facsimile 817/277-1129, or by e-mail at Tom_Cloud@fws.gov; or Luela Roberts at the U.S. Fish and Wildlife Service Regional office, P.O. Box 1306, Room 4012, Albuquerque, New Mexico 87103 (505/248-6654), facsimile 505/248-6788, or by e-mail at Luela_Roberts@fws.gov.

SUPPLEMENTARY INFORMATION: With the assistance of the Service, TPWD proposes to encourage the implementation of conservation measures on private lands to increase lesser prairie-chicken (Tympanuchus pallidicinctus) (LPC) occupied habitat and improve LPC population performance. The proposed CCAA would be in effect for 20 years in the following Texas counties: Dallam, Sherman, Hansford, Ochiltree, Lipscomb, Hartley, Moore, Hutchinson, Roberts, Hemphill, Oldham, Potter, Carson, Gray, Wheeler, Deaf Smith, Randall, Armstrong, Donley, Collingsworth, Parmer, Castro, Swisher, Briscoe, Hall, Childress, Bailey, Lamb, Hale, Floyd, Motley, Cottle, Cochran, Hockley, Lubbock, Crosby, Dickens, King, Knox, Yoakum, Terry, Lynn, Garza, Kent, Stonewall, Gaines, Dawson, Borden, Scurry, and Andrews. These counties constitute the Agreement's Planning Area, with Covered Areas being private lands within this Planning Area that provide suitable habitat for LPC or have the potential to provide suitable LPC habitat with the implementation of conservation management practices. We invite the public to review and comment on the permit application and the associated draft CCAA.

Background

The LPC is a distinct species of North American prairie grouse that inhabits rangelands dominated primarily by shinnery oak (Quercus havardii)-bluestem and sand sagebrush (Artemesia filifolia)-bluestem vegetation types. From the early to mid 1940's to the early 1950's, it is estimated that the range of the LPC in Texas encompassed portions of 34 counties. Researchers considered the occupied range at the mid 20th century to be a reduction from the historical range (ca. 1900). In 1989, TPWD produced an occupied range map that indicated LPC inhabited portions of 12 counties. In 2005, TPWD reported that LPC were found in portions of a minimum of 16 counties. In 1995, the Service was petitioned to list the LPC under the Act. The Service ruled that listing of the LPC was warranted, but precluded because of limited funding and higher priority species litigations. The LPC was designated as a candidate for listing in 1997.

The major factors affecting the status of the LPC are conversion, degradation, and fragmentation of habitat. The conversion of habitat from native sand sagebrush and shinnery oak rangeland to improved pastures and cropland has been documented as an important factor in the decline of the LPC. Although many acres of former cropland throughout its range have been enrolled in the U.S. Department of Agriculture's Conservation Reserve Program (CRP) in the northeastern and southwestern Texas panhandle, LPC populations have not exhibited a marked response to the available vegetation types and structure created by CRP. Many CRP acres have been planted using monocultures of introduced grasses, which do not meet food, brood-rearing, or thermal habitat requirements for the LPC. Mixtures of heavily, moderately, and lightly grazed, and ungrazed native rangelands are essential components of LPC habitat, and should occur in a mosaic pattern on a landscape scale. However, in most areas, an insufficient amount of lightly grazed or ungrazed habitat is available to support successful LPC nesting. Overutilization of rangeland by livestock, to a degree that leaves less than adequate residual cover remaining in the spring, is considered detrimental to LPC populations because grass height is reduced below that necessary for nesting cover, and desirable food plants are markedly reduced.

Since the petition to list the LPC under the Act was filed in 1995, a number of management and conservation efforts have been implemented by State, Federal, and private entities throughout Texas. TPWD has worked to implement conservation measures through its Private Lands and Habitat Program (PLHP). The PLHP includes programs and tools such as the development of written Wildlife Management Plans (WMP), the Technical Guidance Program, Landowner Incentive Program, Wildlife Management Tax Valuation assistance, information on private land trusts, and the Lone Star Land Steward Award Program. The PLHP focuses on a diverse array of programmatic responsibilities for wildlife habitat management and development, technical assistance, incentive programs, and conservation of private lands. PLHP biologists and other TPWD personnel provide technical assistance to land managers and landowners upon written request for assistance to develop plans and recommendations for voluntary conservation, enhancement, and/or development of wildlife habitat. In particular, at the request of landowners, TPWD prepares written WMPs that incorporate recommendations for specific areas and address the conservation goals and objectives of each landowner. In conjunction with the development of landowner-specific WMPs, TPWD proposes to issue Certificates of Inclusion (CI) that provide coverage to individual landowners under the terms of its section 10(a)(1)(A) permit, should one be issued in the future. Each CI will be issued with Service oversight, and will be subject to revocation if the terms of the WMP are not fulfilled. TPWD and the Service feel that this process may preclude or remove any need to list the lesser prairie-chicken, if it is assumed that conservation measures were also to be implemented on other necessary properties, by encouraging private landowners to enroll in the WMP program and undertake the conservation practices prescribed in the CCAA. The proposed CCAA represents a significant milestone in the cooperative conservation efforts for the LPC and is consistent with section 2(a)(5) of the Act, which encourages creative partnerships among public, private, and government entities to conserve imperiled species and their habitats. Consistent with the Service CCAA policy, the proposed CCAA is intended to facilitate conservation actions for the LPC that will remove or reduce the threats to the species. The CCAA is also intended to provide TPWD and those private landowners receiving CIs, under the auspices of TPWD's permit, regulatory certainty related to normal agricultural practices should the LPC become federally listed as threatened or endangered in the future.

The conservation measures in the CCAA would be implemented by individual non-Federal landowners, under the auspices of a TPWD and Service-approved WMP. These measures will generally consist of prescribed grazing, prescribed burning, rangeland deferment, brush management, CRP and cropland management, range planting, other upland wildlife habitat management practices, and population management techniques. TPWD has committed to guide the implementation of these conservation measures and requests issuance of the permit in order to address the take prohibitions of Section 9 of the Act should the species become listed in the future.

We provide this notice under section 10(c) of the Act (16 U.S.C. 1531 et seq.) and its implementing regulations (50 CFR 17.22), and the National Environmental Policy Act (42 U.S.C 4371 et seq.) and its implementing regulations (40 CFR part 1506.6).

Larry G. Bell,
Acting Regional Director, Region 2, Albuquerque, New Mexico.

[FR Doc. E6-13961 Filed 8-22-06; 8:45 am]

BILLING CODE 4310-55-P